DEPARTMENT OF TRANSPORTATION

Federal Aviation Administration

Intent To Prepare an Environmental Impact Statement and Hold Scoping Meetings for Phoenix Sky Harbor International Airport, Phoenix, AZ

AGENCY: Federal Aviation Administration, DOT.

ACTION: Notice to hold one (1) public scoping meeting and one (1) Governmental and Public Agency scoping meeting.

SUMMARY: The Federal Aviation Administration (FAA) is issuing this notice to advise the public that an Environmental Impact Statement will be prepared for development of the proposed West Terminal Complex at the Phoenix Sky Harbor International Airport, Phoenix, Arizona. To ensure that all significant issues related to the proposed action are identified, one (1) public scoping meeting and one (1) governmental and public agency scoping meeting will be held.

FOR FURTHER INFORMATION CONTACT: Kevin B. Flynn, Supervisor, Arizona Standards Section, AWP-623, Airports Division, Federal Aviation Administration, Western-Pacific Region, P.O. Box 92007, Los Angeles, California 90009-2007, Telephone: 310/725-3632. Comments on the scope of the EIS should be submitted to the address above and must be received no later than Wednesday, May 23, 2001.

SUPPLEMENTARY INFORMATION: The Federal Aviation Administration (FAA) will prepare an Environmental Impact Statement for development of the proposed West Terminal Complex at the Phoenix Sky Harbor International Airport (PHX), Phoenix, Arizona. The need to prepare an Environmental Impact Statement (EIS) is based on the procedures described in FAA Order 5050.4A Airport Environmental Handbook. PHX is a commercial service airport located within a standard metropolitan statistical area and the proposed development includes the development of a new terminal complex; and the proposed development is likely to be controversial. The alternatives to be evaluated in the EIS include, but will not necessarily be limited to, the No-Action Alternative; the Proposed Action Alternative; the Modification of Existing Facilities Alternative, and the Combination of Constructing New and Modifying Existing Facilities Alternative. Comments and suggestions are invited from Federal, State, and local agencies, and other interested parties to ensure that the full range of issues related to these proposed projects are addressed and all significant issues are identified. The FAA reserves the right to the option of converting the study to an Environmental Assessment (EA), if the agency finds that the projected environmental impacts would not be significant. If the EA option is selected, the FAA will then issue a Finding of No Significant Impact (FONSI), which will allow the City of Phoenix to implement the Proposed Action Alternative. Written comments and suggestions concerning the scope of the EIS may be mailed to the FAA informational contact listed above and must be received no later than Wednesday, May 23, 2001.

Public Scoping Meetings

The FAA will hold one (1) public and one (1) governmental agency scoping meeting to solicit input from the public and various Federal, State, and local agencies which have jurisdiction by law or have specific expertise with respect to any environmental impacts associated with the proposed project. The public scoping meeting will be held Monday, April 23, 2001, at the Holiday Inn Select Phoenix Airport, 4300 East Washington Street, Phoenix, Arizona 85034. The meeting will be held from 5:00 p.m. to 8:00 p.m. local time. A scoping meeting will be held specifically for governmental and public agencies on Monday, April 23, 2001, at the Holiday Inn Select Phoenix Airport, 4300 East Washington Street, Phoenix, Arizona 85034. The meeting will be held from 1:00 p.m. to 3:00 p.m. local time.

Issued in Hawthorne, California on Wednesday, February 28, 2001.
Herman C. Bliss,
Manager, Airports Division, Western-Pacific Region, AWP-600.

[FR Doc. 01-6100 Filed 3-9-01; 8:45 am]

BILLING CODE 4910-13-M